Title 3—

The President

Proclamation 8377 of May 11, 2009

National Defense Transportation Day and National Transportation Week, 2009

By the President of the United States of America

A Proclamation

Every day, Americans rely on roads, rails, ports, and airports to get to work and to transport goods and services. At the same time, the United States Armed Forces rely on our transportation infrastructure to move personnel and supplies. During National Transportation Week and on National Defense Transportation Day, we underscore the importance of the transportation system to our Nation’s economy and security. We also honor the dedicated professionals who build, maintain, and operate our transportation infrastructure.

From rural roads to state-of-the-art intermodal facilities, transportation infrastructure is crucial to economic growth. Goods and services flow constantly across land, water, and sky, and our most efficient modes of travel save businesses and consumers money, and can reduce impacts on our environment. To compete in the 21st century global economy, the United States must have an advanced transportation system.

Securing America’s energy future and maintaining our national defense also require a robust transportation system. Whether responding to natural disasters at home or mobilizing resources to defend America abroad, transportation is vital to keeping Americans safe. Global climate change and our reliance on foreign oil have also created tremendous national security challenges. To solve these problems and create new economic opportunities, we must make our transportation system cleaner and more efficient.

My Administration has taken bold action to rebuild our Nation’s crumbling infrastructure. The American Recovery and Reinvestment Act integrates the goals of job creation and economic growth with a renewed commitment to transportation. This legislation will fund projects to improve public transportation, repair highways and roads, modernize airports and seaports, and invest in renewable energy, all while creating or saving hundreds of thousands of jobs.

To make the most of every taxpayer dollar, my Administration is working side-by-side with State and local governments and the private sector to provide oversight and to closely monitor these transportation investments.

The women and men who support this critical sector every day make this plan possible. Renewing America’s transportation system is an historic task, and I am convinced they will rise to the challenge.

The Congress has requested, by joint resolution approved May 16, 1957, as amended (36 U.S.C. 120), that the President designate the third Friday in May of each year as “National Defense Transportation Day,” and, by joint resolution approved May 14, 1962, as amended (36 U.S.C. 133), that the week during which that Friday falls be designated as “National Transportation Week.”

NOW, THEREFORE, I, BARACK OBAMA, President of the United States of America, do hereby proclaim Friday, May 15, 2009, as National Defense Transportation Day and May 10 through May 16, 2009, as National Transportation Week. I call upon all Americans to recognize the importance of our Nation’s transportation infrastructure and to acknowledge the contributions of those who build, operate, and maintain it.

IN WITNESS WHEREOF, I have hereunto set my hand this eleventh day of May, in the year of our Lord two thousand nine, and of the Independence of the United States of America the two hundred and thirty-third.

[FR Doc. E9-11496

Filed 5-13-09; 11:15 am]

Billing code 3195-W9-P